Title 3—

The President

Proclamation 10601 of July 21, 2023

Made in America Week, 2023

By the President of the United States of America

A Proclamation

American workers are the best in the world; and today, with a historic Investing in America agenda, we are proving that the phrase “Made in America” is not just a slogan—it is a reality. During Made in America Week, we celebrate the workers, unions, and innovators who power our Nation's prosperity and make it possible for America to once again lead the world in manufacturing.

American manufacturing has long been the backbone of our economy. But for decades, companies moved jobs and production overseas, hollowing out the middle class, rewarding wealth instead of work, leaving our supply chains vulnerable, and robbing countless communities of a sense of pride and self-worth. I ran for President to change that—and thanks to the historic legislation that we have passed in these last 2 years, it is happening. Those laws form the foundation of our Investing in America agenda, which has already attracted hundreds of billions of dollars in private investment and created nearly 800,000 new manufacturing jobs in everything from semiconductors and electric car batteries to clean energy technology and more.

Our Bipartisan Infrastructure Law makes a once-in-a-generation investment in rebuilding America's roads, bridges, railways, ports, airports, and water systems, using American-made iron, steel, manufactured products, and construction materials. And because this bill included provisions like $7.5 billion to build a national network of 500,000 electric vehicle charging stations with American-made equipment, we have seen a boom in manufacturing and private investment here at home. Our historic CHIPS and Science Act brings semiconductor manufacturing home, protecting national security and boosting our supply of those tiny computer chips that power everything from cell phones and computers to washing machines. Our Inflation Reduction Act, meanwhile, makes our biggest investment in fighting the climate crisis in history, with tax credits to boost demand for American-made clean energy technology. We are expanding Registered Apprenticeship and pre-apprenticeship programs, training the next generation of American workers to lead the world in these new industries throughout the 21st century. Last month, we launched www.Invest.gov, an interactive website showing the historic public and private investments that these laws are bringing to States and territories across the country so Americans everywhere can see “Made in America” progress in their own communities and feel new hope and pride reborn.

At the same time, we are using the purchasing power of the Federal Government—the largest buyer of consumer goods in the world—to directly boost demand for American-made products. During my first week as President, I signed an Executive Order directing agencies to tighten Buy America and Buy American policies, close loopholes, increase coordination, and ensure transparency. We also enacted the biggest change to the Buy American Act in nearly 70 years, now requiring a record 60 percent of the value of products' components to be American-made, which will reach 75 percent by 2029. We are also using a federally funded national network—the Manufacturing Extension Partnership—to increase the capabilities of small- and medium-sized domestic manufacturers so that they win more Federal contracts. And to help all American businesses find these opportunities, we launched www.MadeinAmerica.gov.

These historic actions are making sure American workers make American goods on American soil—a key part of my Administration's mission to rebuild our economy from the middle out and bottom up, not the top down. America has always been a can-do country full of possibilities, and together we will keep working to make our economy the most competitive and innovative in the world, while leaving no one behind. This week, we can all feel new pride in those three powerful words—Made in America.

NOW, THEREFORE, I, JOSEPH R. BIDEN JR., President of the United States of America, by virtue of the authority vested in me by the Constitution and the laws of the United States, do hereby proclaim July 23 through July 29, 2023, as Made in America Week. I call upon all Americans to observe this week by celebrating Made in America and supporting American workers and domestic businesses that are the backbone of building a future here in America.

IN WITNESS WHEREOF, I have hereunto set my hand this twenty-first day of July, in the year of our Lord two thousand twenty-three, and of the Independence of the United States of America the two hundred and forty-eighth.

[FR Doc. 2023-15932

Filed 7-25-23; 8:45 am]

Billing code 3395-F3-P